DEPARTMENT OF JUSTICE

Notice of Lodging of Proposed Consent Decree Under the Comprehensive Environmental Response, Compensation, and Liability Act

On August 11, 2025, the Department of Justice lodged a proposed Consent Decree with the United States District Court for the District of New Mexico in the lawsuit entitled United States of America, State of New Mexico, New Mexico Environment Department, and Navajo Nation v. United Nuclear Corporation, Civil Action No. 1:25-cv-00765-KK-SCY.

The complaint in the case alleges claims for recovery of response costs and performance of a remedial action under the Comprehensive Environmental Response, Compensation, and Liability Act (“CERCLA”) against United Nuclear Corporation (“UNC”) with respect to two uranium-contaminated Superfund sites in New Mexico, the Northeast Church Rock Mine Site (“NECR Mine Site”) and the United Nuclear Corporation Mill Site (“UNC Mill Site”). These claims arise from the release and threatened release of mine and mill wastes that are contaminated with radium-226, uranium, and other hazardous substances at the NECR Mine Site and UNC Mill Site. The Consent Decree requires UNC and related party General Electric Company, also a “Settling Defendant” and guarantor, to complete a remedial action selected by EPA that will cost an estimated $62.5 million. The remedial action involves primarily excavation of the NECR Mine Site wastes and transfer of approximately 96% of the wastes to the UNC Mill Site for placement in an engineered repository at the UNC Mill Site. The Consent Decree also provides for the payment of unreimbursed response costs incurred or to be incurred by the United States and the Navajo Nation. In return, the Consent Decree grants covenants not to sue to the Settling Defendants under Sections 106 and 107(a) of CERCLA, Section 7003 of the Resource Conservation and Recovery Act (“RCRA”), and under certain state and tribal laws.

The publication of this notice opens a period for public comment on the Consent Decree. Comments should be addressed to the Assistant Attorney General, Environment and Natural Resources Division, and should refer to United States, State of New Mexico, New Mexico Environment Department and Navajo Nation v. United Nuclear Corp., D.J. Ref. No. 90-11-3-10077/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

Under section 7003(d) of RCRA, a commenter may request an opportunity for a public meeting in the affected area. Any comments submitted in writing may be filed by the United States in whole or in part on the public court docket without notice to the commenter.

During the public comment period, the Consent Decree may be examined and downloaded at this Justice Department website: https://www.justice.gov/enrd/consent-decrees. If you require assistance accessing the Consent Decree, you may request assistance by email or by mail to the addresses provided above for submitting comments.

Thomas Carroll,
Assistant Section Chief, Environmental Enforcement Section, Environment and Natural Resources Division.

[FR Doc. 2025-15495 Filed 8-13-25; 8:45 am]

BILLING CODE 4410-15-P